DEPARTMENT OF AGRICULTURE

Submission for OMB Review; Comment Request

June 12, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by July 18, 2014 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal Plant and Health Inspection Service

Title: Bees and Related Articles.

OMB Control Number: 0579-0207.

Summary of Collection: The Plant Protection Act (APA) (7 U.S.C. 7701 et seq), authorizes the Secretary of Agriculture to prohibit or restrict the importation, entry, or interstate movement of plants, plant products, and other articles to prevent the introduction of plant pests into the United States or their dissemination within the United States. Under the Honeybee Act (7 U.S.C. 281-286), the Secretary is authorized to prohibit or restrict the importation of honeybee semen to prevent the introduction into the United States of diseases and parasites harmful to honeybees and of undesirable species and subspecies of honeybees. The Animal and Plant Health Inspection Service (APHIS), Plant Protection and Quarantine (PPQ), is responsible for implementing the intent of these Acts, and does so through the enforcement of its pollinator regulations and honeybee regulations.

Need and Use of the Information: APHIS collects information from a variety of individuals who are involved in breeding, exporting, importing, and containing bees and related articles. The information APHIS collects serves as the supporting documentation needed to issue required PPQ forms and documents that allow importation of bees and related articles or authorizes the release of bees. This documentation is vital to helping APHIS ensure that exotic bee diseases and parasites, and undesirable species and subspecies of honeybees, do not spread into or within the United States. Without the information APHIS could not verify that imported bees and related articles do not present a significant risk of introducing exotic bee disease, parasites, and undesirable species and subspecies of honeybees.

Description of Respondents: Business or other-for-profit; Federal Government.

Number of Respondents: 199.

Frequency of Responses: Recordkeeping; Reporting: On occasion.

Total Burden Hours: 56.

Ruth Brown,
Departmental Information Collection Clearance Officer.

[FR Doc. 2014-14191 Filed 6-17-14; 8:45 am]

BILLING CODE 3410-34-P